DEPARTMENT OF THE INTERIOR

Office of the Secretary

[A2407-014-004-065516; #O2412-014-004-047181.1; LLHQ210000]

Notice of Adoption of Categorical Exclusions Under Section 109 of the National Environmental Policy Act

AGENCY: Office of the Secretary, Interior.

ACTION: Notice.

SUMMARY: The Department of the Interior (Department) is notifying the public and documenting the adoption of nine U.S. Forest Service (USFS), one U.S. Geological Survey (USGS), one Bureau of Reclamation (BOR) and four Tennessee Valley Authority (TVA) categorical exclusions (CXs) by the Bureau of Land Management (BLM), under section 109 of the National Environmental Policy Act (NEPA), for recreation, restoration, road management, rangeland management, access for hydrologic and geologic exploration, transmission infrastructure, and reburial of human remains and funerary objects under the Native American Graves Protection and Repatriation Act. In accordance with section 109, this notice identifies the types of actions for which the BLM will rely on the CXs, the considerations that the BLM will use in determining the applicability of the CXs and the consultation between the agencies on the use of the CXs, including application of extraordinary circumstances.

DATES: The adoption is effective June 27, 2025.

FOR FURTHER INFORMATION CONTACT: Amelia Savage, Senior Planning and Environmental Analyst, Division of Support, Planning and NEPA, alsavage@blm.gov, telephone (480) 307-8665.

SUPPLEMENTARY INFORMATION:

Background

Programs Background

1. Recreation

The BLM's Recreation Program supports and delivers a wide variety of recreational experiences including, but not limited to, camping, hunting, fishing, hiking, horseback riding, off-highway vehicle driving, mountain biking, bird watching, and various winter sports. The program manages over 4,000 recreation sites and associated facilities, in addition to over 400 fee sites with standard and expanded amenities. An estimated 82 million visitors enjoy outdoor recreation on the BLM-managed public lands every year. The Recreation Program also supports the BLM's Travel and Transportation Management Program, which includes trails, roads, primitive roads, and associated parking lots and trail heads. The BLM's Recreation Program is similar to those managed by the USFS and the TVA. All three recreation programs (i.e., BLM, USFS, and TVA) manage similar types of facilities, including roads, trails, parking areas, trailheads, picnic areas, viewpoints, campgrounds, and boat launch sites, and all three programs manage organized and commercial recreation activities through specific authorization and permit processes.

2. Rangeland Management

The BLM's Rangeland Management Program guides management of rangelands through grazing management, vegetation treatments, soil management, and rangeland health, as well as inventorying, controlling, and managing noxious weeds and invasive species. The BLM currently administers livestock grazing on 155 million of the 245 million acres of public land under its jurisdiction through nearly 18,000 grazing permits and leases that authorize approximately 12.3 million animal unit months (AUMs) of grazing annually (2023 Public Land Statistics, published August 2024). An AUM means the amount of forage necessary for the sustenance of one cow/calf pair or its equivalent for a period of one month. The BLM's Rangeland Management Program is similar to the one managed by the USFS. Both Rangeland Management Programs manage livestock grazing, vegetation treatments, soil management, and rangeland health, as well as inventorying, controlling, and managing noxious weeds and invasive species.

3. Rights-of-Way

The BLM Lands and Realty Program processes applications for rights-of way or other land use authorizations that facilitate commercial, non-commercial, recreational, and other activities to ensure that the public lands are working landscapes managed for the use and enjoyment of current and future generations, including for communication sites, transmission lines, fiber optic infrastructure, and energy.

4. Mineral Materials

Mineral materials include natural resources, such as sand, gravel, dirt, and rock, used in everyday building and other construction uses. These materials generally are bulky and have low unit price. Their sheer weight makes their transportation costs very high. Adequate local supplies of these basic resources are vital to the economic life of any community. The BLM's policy is to make these materials available to the public and local governmental agencies whenever possible and wherever environmentally acceptable.

5. Native American Graves Protection and Repatriation Act

The Native American Graves Protection and Repatriation Act of 1990, (NAGPRA) provides a process for Federal agencies and museums that receive Federal funds to repatriate or transfer certain Native American cultural items—human remains, funerary objects, sacred objects and objects of cultural patrimony—to lineal descendants, Indian Tribes, Alaska Native Corporations, and Native Hawaiian organizations. NAGPRA also provides a process for Federal agencies to address new discoveries of Native American human remains, funerary objects, sacred objects, and objects of cultural property intentionally excavated or inadvertently discovered on Federal or Tribal lands.

National Environmental Policy Act and Categorical Exclusions

NEPA, as amended, 42 U.S.C. 4321-4347, requires all Federal agencies to consider the environmental impact of their proposed actions before deciding whether and how to proceed. 42 U.S.C. 4321, 4332. NEPA's aims are to ensure agencies consider the environmental effects of their proposed actions in their decision-making processes and inform and involve the public in that process. 42 U.S.C. 4331.

Under NEPA, a Federal agency can establish CXs—categories of actions that normally do not have a significant effect on the human environment and therefore do not require preparation of an environmental assessment (EA) or an environmental impact statement (EIS). 42 U.S.C. 4336e(1). These CXs are listed in an agency's NEPA implementation procedures. In accordance with that agency's NEPA procedures, if an agency determines that a CX covers a proposed action, it then evaluates the proposed action to determine whether any extraordinary circumstances that indicate the normally excluded action may have a significant effect. If no extraordinary circumstances are present or if further analysis determines that the extraordinary circumstances do not involve the potential for significant environmental impacts, the agency may apply the CX to the proposed action without preparing an EA or EIS. 42 U.S.C. 4336(a)(2).

Section 109 of NEPA, enacted as part of the Fiscal Responsibility Act of 2023, allows a Federal agency to “adopt” or use another agency's CX for a category of proposed agency actions. 42 U.S.C. 4336(c). To adopt another agency's CXs under section 109, the adopting agency must identify the relevant CX listed in another agency's (“establishing agency”) NEPA procedures that cover the adopting agency's category of proposed actions or related actions; consult with the establishing agency to ensure that the proposed adoption of the CX for the relevant category of actions is appropriate; identify to the public the CX that the adopting agency plans to use for its proposed actions; and document adoption of the CX. 42 U.S.C. 4336(c). The BLM has prepared this notice to describe how it has met applicable statutory requirements for the adoption of 15 CXs, 36 CFR 220.6(d) (5) and (12), 36 CFR 220.6(e) (1), (5), (9), (20), (21), (22) and (23), 516 Departmental Manual (DM) 14.5 D(9), 516 DM 9.5(P) and 18 CFR part 1318, subpart C, appendix A, n. 17, 22, 23 and 34 and to notify the public.

The Department's NEPA procedures are codified at 43 CFR part 46. These procedures address compliance with the NEPA. The Department's protocol for application of CXs is at 43 CFR 46.205. The Department's CXs available to all bureaus within the Department are listed in 43 CFR 46.210. Additional Department-wide NEPA policy is found in the DM, in chapters 1 through 4 of part 516. Supplementary NEPA procedures for the Department's bureaus are published in additional chapters in part 516 of the DM. Chapter 11 of the 516 DM covers the BLM's NEPA procedures and the BLM CXs are listed in 516 DM 11.9.

Categorical Exclusions That Are Adopted

The BLM has identified the following USFS CX, found at 36 CFR 220.6(d)(5) which applies to repair and maintenance of recreation sites and facilities. The BLM intends to rely on this CX to conduct, for example and without limitation, the repair and maintenance of existing recreation sites and facilities including application of pesticide treatments, repairing vault toilets, and repairing and maintaining campsites.

The BLM has identified the following USFS CX, found at 36 CFR 220.6(d)(12) which applies to issuance of a new authorization or amendment of an existing authorization for recreation special uses. The BLM intends to rely on this CX to issue, for example and without limitation, a new Special Recreation Permit or amend an existing Special Recreation Permit authorizing activities on existing roads, trails, or facilities, or in an area where such activities are allowed, for activities such as high school mountain bike races, competitive motorcycle races, wagon train reenactments on designated roads or trails, permits for shuttle operators, or use of existing facilities and recreation sites for organized group activities and events.

The BLM has identified the following USFS CX, found at 36 CFR 220.6(e)(1) which applies to construction and reconstruction of trails. The BLM intends to rely on this CX to authorize, for example and without limitation, the construction and reconstruction of trails to ensuring that access to toilets, picnic tables, and boat ramps accommodates users of wheelchairs or other similar mobility assistance devices.

The BLM has identified the following USFS CX, found at 36 CFR 220.6(e)(5) which applies to regeneration of an area to native tree species. The BLM intends to rely on this CX to authorize, for example and without limitation, the regeneration of areas to native tree species including site preparation techniques such as prescribed fire, soil scarification, and ripping or subsoiling. The BLM would not rely on this CX for regeneration of plants other than trees.

BLM has identified the following USFS CX, found at 36 CFR 220.6(e)(9) which applies to implementation or modification of minor management practices to improve allotment condition or animal distribution. The BLM intends to rely on this CX to authorize minor management practices to improve allotment conditions or animal distribution when an allotment management plan is not in place, including but limited to, revegetation, adding or moving a water facility, consistent with the examples provided in the CX text.

BLM has identified the following USFS CX, found at 36 CFR 220.6(e)(20) which applies to activities that restore, rehabilitate, or stabilize lands occupied by roads and trails. The BLM intends to rely on this CX to authorize, for example and without limitation, actions that restore, rehabilitate, and stabilize lands associated with roads and trails, including installing features such as boulders and logs to promote revegetation, reestablishing natural drainage, stabilizing slopes, and installing water bars.

BLM has identified the following USFS CX, found at 36 CFR 220.6(e)(21) which applies to construction, reconstruction, decommissioning, relocation, or disposal of buildings, infrastructure, or other improvements at an existing administrative site. The BLM intends to rely on this CX to authorize, for example and without limitation, activities including the removal, construction, reconstruction, decommissioning, relocation, or disposal of buildings, infrastructure, or other improvements at an existing administrative site.

BLM has identified the following USFS CX, found at 36 CFR 220.6(e)(22) which applies to construction, reconstruction, decommissioning, or disposal of buildings, infrastructure, or improvements at an existing recreation site. The BLM intends to rely on this CX when authorizing, for example and without limitation, the construction, reconstruction, decommissioning, or disposal of buildings, infrastructure, or improvements at an existing recreation site, or infrastructure or improvements that are adjacent or connected to an existing recreation site and provide access or utilities for that site including construction, reconstruction, or decommissioning of toilets, camps sites, parking areas, and roads.

BLM has identified the following USFS CX, found at 36 CFR 220.6(e)(23) which applies to road management activities on up to 8 miles of NFS roads and associated parking areas. The BLM intends to rely on this CX to authorize, for example and without limitation, repair, rehabilitation, and providing safety improvements for roads and associated features on the BLM managed public land including installation of pull outs, shoulders, and bridges.

Consistent with 36 CFR 220.6(e), the USFS, when relying on these CXs, develops a supporting record and a decision memo. The documentation the BLM will develop when it relies on one of these adopted CXs will be similar to USFS documentation and the BLM will publish the documentation on its publicly available National NEPA Register (https://eplanning.blm.gov/eplanning-ui/home).

The BLM has identified the following BOR CX, found at 516 DM 14.5 D(9), which applies to issuance of permits for removal of gravel or sand. Consistent with the CX text, the BLM intends to rely on the CX to support approval of the issuance of permits to remove sand and gravel from existing quarries, mines, or pits.

The BLM has identified the following USGS CX, found at 516 DM 9.5(P) which applies to minor activities required to gain or prepare access to sites for exploration drilling operations. The BLM intends to rely on the CX to prepare access to conduct exploratory drilling or construction of a station for geologic, hydrologic, and geophysical data collection. The CX is limited to minor activities relating to accessing the site and does not include exploratory drilling or station construction.

The BLM has identified the following TVA CX, found at 18 CFR part 1318, subpart C, appendix A, n. 17 which applies to routine modification, repair, maintenance, and minor upgrade of, and addition to, existing transmission infrastructure. The BLM intends to rely on the CX to authorize activities, for example and without limitation, powerline modification, repair, maintenance, minor upgrade, or addition to, existing transmission infrastructure and construction of roads outside a right-of way that are up to one mile long, consistent with the examples listed in the CX text.

The BLM has identified the following TVA CX, found at 18 CFR part 1318, subpart C, appendix A, n. 22 which applies to development of dispersed recreation sites. The BLM intends to rely on the CX to support the development of dispersed recreation sites of less than 10 acres, for example and without limitation, installation and construction of trails, access improvements, dispersed camp sites, and fencing.

The BLM has identified the following TVA CX, found at 18 CFR part 1318, subpart C, appendix A, n. 23 which applies to development of public use areas. The BLM intends to rely on the CX to construct public use sites such as developed recreation sites smaller than 10 acres, for example and without limitation, boat ramps, stream access, camp sites, parking lots, and access roads.

The BLM has identified the following TVA CX, found at 18 CFR part 1318, subpart C, appendix A, n. 34 which applies to reburial of human remains and funerary objects. The BLM intends to rely on the CX to rebury human remains and funerary objects discovered after the enactment of NAGPRA on BLM-managed public land.

Consultation With USFS, USGS, BOR and TVA and Determination of Appropriateness

The BLM consulted with USFS, USGS, BOR and TVA on the appropriateness of the adoption of the CXs for the BLM's use in October 2024. The consultations included a review of USFS's, USGS's, BOR's, and TVA's experiences developing and applying the CXs, as well as the types of actions for which the BLM plans to rely on the CXs. The USFS, TVA, and the BLM discussed that USFS's, TVA's, and the BLM authorized trails, roads, recreation sites, and associated land use authorizations are similar in type and scope. The other types of the BLM actions are also similar in type and scope to the actions that USFS, USGS, BOR, and TVA conduct in reliance on CXs. Therefore, the effects of the BLM's actions are expected to be similar to the effects of USFS, USGS, BOR, and TVA actions, which are not significant, absent the presence of extraordinary circumstances that could involve potentially significant effects. The Department has determined that adoption of the CXs for the BLM's use as described in this notice is appropriate.

Consideration of Extraordinary Circumstances

In consultations with USFS, USGS, BOR, and TVA, the BLM evaluated the extraordinary circumstances to be considered when applying these CXs. When applying these CXs, responsible officials within the BLM will evaluate proposed actions covered by the CXs to determine whether any extraordinary circumstances are present. The Department's extraordinary circumstances are listed at 43 CFR 46.215 and include, in part, consideration of impacts on public health and safety; natural resources; unique geographic characteristics; historic or cultural resources; park, recreation, or refuge lands; wilderness areas; wild or scenic rivers; national natural landmarks; sole or principal drinking water aquifers; prime farmlands; wetlands; floodplains; national monuments; migratory birds; other ecologically significant or critical areas; unresolved conflicts concerning alternative uses of available resources; unique or unknown environmental risks; precedent for future decision-making; historic properties; listed species or critical habitat; access by Indian religious practitioners to, and for ceremonial use of, Indian sacred sites and the physical integrity of those sites; and contribution to the introduction, continued existence, or spread of invasive weeds or non-native invasive species. The Department's list of extraordinary circumstances addresses issues also identified by the USFS and found at 36 CFR. 220.6 and by the TVA found at 18 CFR 1318.201 and therefore, responsible officials in the BLM intending to rely on these CXs will review whether the proposed action has the potential to result in significant effects as described in the Department's extraordinary circumstances. Because the BLM, BOR, and USGS are bureaus within the Department, the same extraordinary circumstances are used for all three bureaus. The responsible official will assess whether an extraordinary circumstance is present. If the responsible official cannot rely on a CX to support a decision to authorize or take a particular proposed action due to the presence of one or more extraordinary circumstances, the proposed action must be analyzed in an EA or EIS before a decision is made authorizing the action, consistent with and 43 CFR 46.205(c).

Notice to the Public and Documentation of Adoption

This notice identifies to the public the BLM's adoption of the USFS's, USGS's, BOR's, and TVA's CXs for the BLM's use. The notice identifies the types of actions to which the BLM would apply the CXs. The documentation of the adoption will also be available at http://www.blm.gov/programs/planning-and-nepa/what-informs-our-plans/nepa and at https://www.doi.gov/oepc/nepa/categorical-exclusions. The BLM will add the adopted CXs to the BLM's NEPA DM Chapter in 516 DM 11.

Authorities

National Environmental Policy Act of 1969, as amended (42 U.S.C. 4321 et seq.).

Stephen G. Tryon,
Director, Office of Environmental Policy and Compliance.

[FR Doc. 2025-11935 Filed 6-26-25; 8:45 am]

BILLING CODE 4331-27-P